DEPARTMENT OF TRANSPORTATION

Federal Highway Administration

Notice of Final Federal Agency Actions on Proposed Highway Project in Michigan

AGENCY: Federal Highway Administration (FHWA), Department of Transportation (DOT).

ACTION: Notice of limitation on claims for judicial review.

SUMMARY: This notice announces actions taken by FHWA that are final. The actions relate to a proposed highway project, M-37 Improvement Project, just south of 92nd Street in the Village of Caledonia to just north of 76th Street in Caledonia Township, in Kent County, State of Michigan. The actions issue National Environmental Policy Act (NEPA) and Section 4(f) of the U.S. Department of Transportation Act of 1966 (Section 4(f)) decisions relating to the M-37 Improvement Project.

DATES: By this notice, FHWA is advising the public of final agency actions subject to 23 U.S.C. 139(l)(1). A claim seeking judicial review of the Federal agency action on the highway project will be barred unless the claim is filed on or before September 15, 2025. If the Federal law that authorizes judicial review of a claim provides a time period of less than 150 days for filing such claim, then the shorter time period applies.

FOR FURTHER INFORMATION CONTACT: For FHWA: Eric Purkiss, Program Development Director, FHWA Michigan Division, 315 Allegan, Room 201, Lansing, MI 48933, Telephone: (517) 702-1848, email: Eric.Purkiss@dot.gov. The FHWA Michigan Division Office's normal business hours are 8 a.m. to 4:30 p.m. (Eastern Standard Time). For the Michigan Department of Transportation (MDOT): Thomas Sabin, Projects and Contracts Engineer Manager, MDOT, 2660 Leonard St. NE, Grand Rapids, MI 49525, Telephone: (616) 464-1800, email: SabinT@michigan.gov. The Michigan Department of Transportation's normal business hours are 7:30 a.m. to 4:30 p.m. (Eastern Standard Time).

SUPPLEMENTARY INFORMATION: Notice is hereby given that FHWA has taken final agency actions subject to 23 U.S.C. 139(l)(1) by issuing a Finding of No Significant Impact (FONSI) and a Section 4(f) de minimis finding for the following highway project in the State of Michigan: M-37 Improvement Project in Kent County which includes widening M-37 from Emmons Street to 92nd Street and reconstructing M-37 as a four-lane boulevard from just south of 92nd Street to the existing boulevard north of 76th Street, with directional median crossovers north and south of 84th Street, and 76th Street to service left-turn movements. Additional crossover locations are provided at various midblock points along M-37 to access side streets and properties. New traffic signals will be added at the new 84th Street directional median crossovers, improving access along M-37. In addition, the nonmotorized path adjacent to M-37 will be repaved from 92nd Street to Cherry Valley Avenue to accommodate the wider roadway cross-section. Lastly, all culverts, including the Emmons Lake Outlet culvert, will be replaced, and several detention basins of approximately 5.11 acres will be located at low points along the corridor.

The actions by FHWA (including the 4(f) de minimis impact determination, approved on July 26, 2024), and the laws under which such actions were taken, are described in the Environmental Assessment (EA) for the project, approved on July 26, 2024, and in the FHWA FONSI issued on December 27, 2024, and in other documents in the project records. The EA, FONSI and other project records are available for review by contacting FHWA or MDOT at the addresses provided above. The EA and FONSI can also be viewed and downloaded from the project website at: https://www.michigan.gov/mdot/projects-studies/studies/traffic-and-environmental-linkages-studies/m-37-project.

This notice applies to all Federal agency decisions that are final as of the issuance date of the notice and all laws under which such actions were taken, including but not limited to:

1. General: National Environmental Policy Act (NEPA) [42 U.S.C. 4321-4351]; Federal-Aid Highway Act [23 U.S.C. 109 and 23 U.S.C. 128]; E.O. 11514 Protection and Enhancement of Environmental Quality.

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act (ESA) [16 U.S.C. 1531-1544 and Section 1536]; Marine Mammal Protection Act [16 U.S.C. 1361]; Anadromous Fish Conservation Act [16 U.S.C. 757(a)-757(g)], Fish and Wildlife Coordination Act [16 U.S.C. 661-667d]; Migratory Bird Treaty Act [16 U.S.C. 703-712], Magnuson-Stevenson Fishery Conservation and Management Act of 1976, as amended [16 U.S.C. 1801 et seq.]; E.O. 13112 Invasive Species.

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469c]; Native American Grave Protection and Repatriation Act (NAGPRA) [25 U.S.C. 3001-3013]; E.O. 11593 Protection and Enhancement of Cultural Resources; E.O. 13007 Indian Sacred Sites; E.O. 13287 Preserve America; E.O. 13175 Consultation and Coordination with Indian Tribal Governments.

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; TEA-21 Wetlands Mitigation [23 U.S.C. 103(b)(6)(M, 133(b)(11)]; Flood Disaster Protection Act [42 U.S.C. 4001-4128]; E.O. 11990 Protection of Wetlands; E.O. 11988 Floodplain Management.

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

(Catalog of Federal Domestic Assistance Program Number 20.205, Highway Planning and Construction. The regulations implementing Executive Order 12372 regarding intergovernmental consultation on Federal programs and activities apply to this program.)

(Authority: 23 U.S.C. 139(l)(1)).

Issued on: April 11, 2025.
Theodore G. Burch
Division Administrator Federal Highway Administration.

[FR Doc. 2025-06474 Filed 4-15-25; 8:45 am]

BILLING CODE 4910-RY-P